FEDERAL COMMUNICATIONS COMMISSION

47 CFR Parts 27 and 90

[WT Docket No. 06-150; CC Docket No. 94-102; WT Docket No. 01-309; WT Docket No. 03-264; WT Docket No. 06-169; PS Docket No. 06-229; WT Docket No. 96-86; WT Docket No. 07-166; FCC 07-132]

Service Rules for the 698-806 MHz Band, Revision of the Commission's Rules Regarding Public Safety Spectrum Requirements, and a Declaratory Ruling on Reporting Requirement Under the Commission's Anti-Collusion Rule

AGENCY: Federal Communications Commission.

ACTION: Final rule; announcement of effective date.

SUMMARY: In this document, the Commission announces that certain rules adopted in the Service Rules for the 698-806 MHz Band proceeding, to the extent they contained information collection requirements that required approval by the Office of Management and Budget (OMB), were approved, October 28, 2011.

DATES: The final rules published on August 24, 2007, 72 FR 48814, amending 47 CFR 27.14(g) through (l), 27.15, 27.50 and 90.176 are effective November 21, 2011.

FOR FURTHER INFORMATION CONTACT: Linda Chang, Federal Communications Commission, Wireless Telecommunications Bureau, 445 12th St. SW., Washington, DC 20554 at (202) 418-1339.

SUPPLEMENTARY INFORMATION: 1. In a Second Report and Order (“Second R &O”) released on August 10, 2007, FCC 07-132, and published in the Federal Register on August 24, 2007 at 72 FR 48814, the Commission adopted rules which contained information collection requirements subject to the Paperwork Reduction Act (PRA). The Second R&O stated that, upon OMB approval of the information collection requirements, the Commission would publish in the Federal Register a document announcing the effective date of these rules. On October 28, 2011 the OMB approved, for a period of three years, the information collection requirements contained in 47 CFR 27.14(g) through (l), 27.15, 27.50 and 90.176 of the Commission's rules under OMB Control No. 3060-1161.

2. On October 28, 2011, OMB approved the public information collection associated with these rule changes under OMB Control No. 3060-1161.

Federal Communications Commission.
Marlene H. Dortch,
Secretary.

[FR Doc. 2011-30049 Filed 11-18-11; 8:45 am]

BILLING CODE 6712-01-P